DEPARTMENT OF THE INTERIOR

National Park Service

[NPS-WASO-PCE-COR-NTS-NPS0034418; PPWOPCADT0, PPMPSPD1T.Y00000 (211); OMB Control Number 1024-0283]

Agency Information Collection Activities; Application for Designation as National Recreation Trail or National Water Trail

AGENCY: National Park Service, Interior.

ACTION: Notice of information collection; request for comment.

SUMMARY: In accordance with the Paperwork Reduction Act of 1995, we, the National Park Service (NPS) are proposing to renew an information collection with revisions.

DATES: Interested persons are invited to submit comments on or before November 14, 2022.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0283” in the subject line of your comments.

FOR FURTHER INFORMATION CONTACT: To request additional information about this ICR, contact Peter Bonsall, National Trails System Program Specialist, National Recreation Trails Coordinator for the Department of the Interior, 12795 W Alameda Parkway, Lakewood, CO 80228; at peter_bonsall@nps.gov (email), or (303) 969-2620 (telephone). Please reference OMB Control Number 1024-0283 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On January 12, 2022, we published a Federal Register notice soliciting comments on this collection of information for 60 days, (87 FR 1779) ending on March 14, 2022. No comments were received.

We are again soliciting comments on the proposed ICR described below. We are especially interested in public comment addressing the following issues: (1) is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS administers the NRT program as authorized by section 4 of the National Trails System Act (16 U.S.C. 1243) and Secretarial Order No. 3319, which establishes National Water Trails as a class of National Recreation Trails and directs that such trails collectively be considered in a National Water Trails System.

The NPS uses forms 10-1002: Application for Designation as National Water Trail and 10-1003: Application for Designation as National Recreation Trail, to evaluate the applications for adherence to NRT requirements and criteria. NPS Approval of an application is based on (1) the sufficiency of information provided on the application form and in supporting documentation, such as photographs, maps, and written landowner consents that accompany the form, and (2) successfully meeting the NRT requirements and criteria. Successful applications are forwarded to the Secretary of the Interior for approval. Revisions to Forms 10-1002: Application for Designation—National Water Trails System and 10-1003: Application for Designation—National Recreation Trail are intended to better clarify trail attributes, provide more detailed public information, and align questions asked to establish a more unified application process.

Title of Collection: Application for Designation as National Recreation Trail or National Water Trail.

OMB Control Number: 1024-0283.

Form Number: NPS 10-1002: Application for Designation as National Water Trail and NPS 10-1003: Application for Designation as National Recreation Trail.

Type of Review: Revision of a currently approved collection.

Description of Respondents: Private individuals; businesses; educational institutions; nonprofit organizations; state, tribal, and local governments; and Federal agency land units.

Total Estimated Number of Annual Respondents: 30.

Total Estimated Number of Annual Responses: 30.

Total Estimated Number of Annual Burden Hours: 130 hours.

Respondent's Obligation: Required to obtain or retain a benefit.

Frequency of Collection: On occasion.

Total Estimated Annual Nonhour Burden Cost: None.

*rounded to nearest hour

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-22363 Filed 10-13-22; 8:45 am]

BILLING CODE 4312-52-P